DEPARTMENT OF VETERANS AFFAIRS

Genomic Medicine Program Advisory Committee

The Department of Veterans Affairs (VA) gives notice under the Federal Advisory Committee Act, that a meeting of the Genomic Medicine Program Advisory Committee (the Committee) will be held virtually on Tuesday, September 29, 2020. The meeting will begin at 11 a.m. EDT and adjourn at 3 p.m. EDT. The meeting is open to the public via Webex https://veteransaffairs.webex.com/webappng/sites/veteransaffairs/meeting/download/2fe78c5a7b874c6398af6379146b75bc?siteurl=veteransaffairs&MTID=mc2d13b50a0af24cf5a588b56eb6ad82d password 2NSxcpaP@33 or by phone at call in +1 (404) 397-1596 meeting code: 1993331445#.

The purpose of the Committee is to provide advice and make recommendations to the Secretary of Veterans Affairs on using genetic information to optimize medical care for Veterans and to enhance development of tests and treatments for diseases particularly relevant to Veterans.

On September 29, 2020, the Committee will receive updated briefings on various VA research programs, including the Million Veteran Program (MVP) to ascertain the progress of the program in the areas of participant recruitment, data generation and storage, and data access. The Committee will also receive updates from ongoing MVP research, including new COVID related research, return of genetics results pilot studies, draft recommendations from a subcommittee on Genomics Services within the VA, and a new initiative on increasing diversity and inclusion in VA research. Additionally, the Committee will discuss and explore potential recommendations to be included in the next annual report.

Public comments will be received at 2:15 p.m. EDT and are limited to 5 minutes each. Individuals who speak are invited to submit a 1-2 page summary of their comments for inclusion in the official meeting record to Jennifer Moser, Designated Federal Officer, Office of Research and Development (10X2), 810 Vermont Avenue NW, Washington, DC 20420, or at Jennifer.Moser@va.gov. In the communication, writers must identify themselves and state the organization, association or person(s) they represent. Any member of the public who wishes to attend the teleconference should RSVP to Jennifer Moser at 202-510-4253 no later than close of business, September 22, 2020, at the phone number or email address noted above.

Dated: August 18, 2020.
LaTonya L. Small,
Federal Advisory Committee Management Officer.

[FR Doc. 2020-18410 Filed 8-20-20; 8:45 am]

BILLING CODE P